DEPARTMENT OF TRANSPORTATION

Federal Aviation Administration

14 CFR Part 39

[Docket No. FAA-2007-27976; Directorate Identifier 2007-CE-042-AD]

RIN 2120-AA64

Airworthiness Directives; Cirrus Design Corporation Models SR20 and SR22 Airplanes

AGENCY: Federal Aviation Administration (FAA), Department of Transportation (DOT).

ACTION: Notice of proposed rulemaking (NPRM).

SUMMARY: We propose to adopt a new airworthiness directive (AD) for certain Cirrus Design Corporation (CDC) Models SR20 and SR22 airplanes. This proposed AD would require you to replace the pick-up collar support and nylon screws, of the Cirrus Airplane Parachute System (CAPS), with a new design pick-up collar support and custom tension screws. This proposed AD results from a CDC report of an in-flight CAPS activation where the parachute failed to successfully deploy. We are proposing this AD to correct pick-up collar support fasteners of the CAPS, which could result in the premature separation of the collar. This condition, if not corrected, could result in the parachute failing to successfully deploy (CAPS failure).

DATES: We must receive comments on this proposed AD by June 18, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instruction for submitting comments.

For service information identified in this proposed AD, contact Cirrus Design Corporation, 4515 Taylor Circle, Duluth, Minnesota 55811; telephone (218) 727-2737; internet address: http://www.cirrusdesign.com.

FOR FURTHER INFORMATION CONTACT: Wess Rouse, Aerospace Engineer, 2300 East Devon Avenue, Room 107, Des Plaines, Illinois 60018; telephone: (847) 294-8113; fax: (847) 297-7834.

SUPPLEMENTARY INFORMATION:

Comments Invited

We invite you to send any written relevant data, views, or arguments regarding this proposed AD. Send your comments to an address listed under the ADDRESSES section. Include the docket number, “FAA-2007-27976; Directorate Identifier 2007-CE-042-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received a CDC report of an in-flight CAPS activation where the parachute failed to successfully deploy. A CDC airplane in Australia had an engine failure and was making an off airport landing. The pilot activated the CAPS, and evidence indicates that the parachute was not properly extracted from the airplane.

Testing indicates that the force of the CAPS rocket ignition and rocket blase may prematurely break the nylon pick up collar/support screws. When functioning properly the screws should not break until impacted by a flange at the rocket base. A prematurely separated collar/support may bind on the rocket as it slides down toward the flange at the base of the rocket. This may alter the direction of the rocket.

This condition, if not corrected, could result in the parachute failing to successfully deploy (CAPS failure).

Relevant Service Information

We have reviewed CDC's Alert Service Bulletin No. SB A2X-95-10 R2, Issued April 2, 2007, Revised: April 24, 2007.

The service information describes procedures for replacing the pick-up collar support of the CAPS with a new design pick-up collar support and replacing the nylon screws with custom aluminum tension screws.

FAA's Determination and Requirements of the Proposed AD

We are proposing this AD because we evaluated all information and determined the unsafe condition described previously is likely to exist or develop on other products of the same type design. This proposed AD would require you to do a replacement of the pick-up collar support and associated fastening screws of the CAPS.

Costs of Compliance

We estimate that this proposed AD would affect 2,677 airplanes in the U.S. registry.

We estimate the following costs to do the proposed replacement of the pick-up collar support of the CAPS:

Labor cost | Parts cost | Total cost per airplane | Total cost on U.S. operators
2 work-hours × $80 per hour = $160 | $17 | $177 | $473,829

Note: CDC will provide warranty credit to the extent noted in Cirrus Alert Service Bulletin No. SB A2X-95-10 R2, Issued April 2, 2007, Revised: April 24, 2007.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this porposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposed to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cirrus Design Corporation: Docket No. FAA-2007-27976; Directorate Identifier 2007-CE-042-AD.

Comments Due Date

(a) We must receive comments on this airworthiness directive (AD) action by June 18, 2007.

Affected ADs

(b) None.

Applicability

(c) This AD applies to Model SR20 airplanes, serial numbers (SN) 1005 through 1798, and Model SR22 airplanes, SN 0002 through 2437, that are certificated in any category.

Unsafe Condition

(d) This AD results from a Cirrus Design Corporation (CDC) report of an in-flight Cirrus Airplane Parachute System (CAPS) activation where the parachute failed to successfully deploy. We are issuing this AD to correct pick-up collar support fasteners of the CAPS, which could result in the premature separation of the collar. This condition, if not corrected, could result in the parachute failing to successfully deploy (CAPS failure).

Compliance

(e) To address this problem, you must do the following, unless already done:

Actions | Compliance | Procedures
Replace the pick-up collar support of the CAPS with the new design pick-up collar support and the two nylon collar support screws with new custom aluminum tension screws. One of the following must do the replacement: | Within the next 25 hours time-in-service (TIS), or within 60 days, whichever occurs first after the effective date of this AD | Follow Cirrus Alert Service Bulletin No. SB A2X-95-10 R2, Issued April 2, 2007, Revised: April 24, 2007.
(1) A CDC trained and authorized parachute system technician who also holds an Airframe and Powerplant (A&P) mechanic license; or
(2) a CDC trained and authorized parachute system technician who is supervised by an A&P mechanic.

Alternative Methods of Compliance (AMOCs)

(f) The Manager, Chicago Aircraft Certification Office (ACO), FAA, has the authority to approve AMOCs for this AD, if requested using the procedures found in 14 CFR 39.19. Send information to ATTN: Wess Rouse, Aerospace Engineer, FAA, 2300 East Devon Avenue, Room 107, Des Plaines, Illinois 60018; telephone: (847) 294-8113; fax: (847) 297-7834. Before using any approved AMOC on any airplane to which the AMOC applies, notify your appropriate principal inspector (PI) in the FAA Flight Standards District Office (FSDO), or lacking a PI, your local FSDO.

Related Information

(g) To get copies of the service information referenced in this AD, contact Cirrus Design Corporation, 4515 Taylor Circle, Duluth, Minnesota 55811; telephone: (218) 727-2737; internet address: www.cirrusdesign.com. To view the AD docket, go to the Docket Management Facility; U.S. Department of Transportation, 400 Seventh Street, SW., Nassif Building, Room PL-401, Washington, DC, or on the Internet at http://dms.dot.gov. The docket number is Docket No. FAA-2007-27976; Directorate Identifier 2007-CE-042-AD.

Issued in Kansas City, Missouri, on May 11, 2007.
David R. Showers,
Acting Manager, Small Airplane Directorate, Aircraft Certification Service.

[FR Doc. 07-2438 Filed 5-16-07; 8:45 am]

BILLING CODE 4910-13-M